DEPARTMENT OF THE INTERIOR

Fish and Wildlife Service

[FWS-R8-ES-2017-N079; FF08ESMF00-FXES11120800000-178]

Proposed Habitat Conservation Plan for Sierra Pacific Industries Forest Practices in the Klamath, Cascade, and Sierra Nevada Mountains, CA; Environmental Impact Statement

AGENCY: Fish and Wildlife Service, Interior.

ACTION: Notice of intent and request for comments; notice of scoping meeting.

SUMMARY: Pursuant to the National Environmental Policy Act (NEPA) of 1969, as amended, we, the U.S. Fish and Wildlife Service, are advising the public that we intend to prepare an environmental impact statement (EIS) on a proposed Endangered Species Act incidental take permit (ITP) application from Sierra Pacific Industries (SPI) for the federally threatened Northern spotted owl and the California spotted owl. The California spotted owl was recently petitioned for listing under the ESA. The activities to be covered would include timber harvest and timber management SPI conducts on its lands in the State of California. We are also announcing the initiation of a 30-day public scoping process to engage Federal, Tribal, State, and local governments; special interest groups; and the public in the identification of issues and concerns, potential impacts, and possible alternatives to the Service's Proposed Action.

DATES:

Submitting Comments: We will consider all comments on the scope of the environmental impact statement (EIS) analysis that are received or postmarked by September 22, 2017. Comments received or postmarked after this date will be considered to the extent practicable.

Meetings: We will conduct two public scoping meetings. The scoping meetings will provide the public an opportunity to ask questions, discuss issues with the Service regarding the EIS, and provide written comments.

• September 13, 2017—Hilltop Holiday Inn—Buckskin Room, 1900 Hilltop Drive, Redding, California, 5:30 to 7:30 p.m.

• September 14, 2017—Bonderson Building—Hearing Room, 901 P Street, Sacramento, California, 1:30 to 3:30 p.m.

Online Webinar: In addition, the Service will host a webinar on September 14, 2017, from 5:30 to 7:30 p.m. Pacific Standard Time. For information on how to participate, go to https://attendee.gotowebinar.com/register/6193715410282440961.

Pre-registration is required.

ADDRESSES: Additional information on the Service's proposed action is provided on the Internet at www.fws.gov/sacramento.

Send written comments to the Field Supervisor, via one of the following methods:

• U.S. mail or hand-delivery: U.S. Fish and Wildlife Service, Sacramento Fish and Wildlife Office, 2800 Cottage Way, Suite 2605, Sacramento, CA 95825; or

• Fax: 916-414-6713.

FOR FURTHER INFORMATION CONTACT: Kim Turner, at 916-414-6606 (telephone) or Kim_S_Turner@fws.gov (email). If you use a telecommunications device for the deaf, please call the Federal Relay Service at 800-877-8339.

SUPPLEMENTARY INFORMATION: Pursuant to the National Environmental Policy Act of 1969, as amended (42 U.S.C. 4321 et seq.; NEPA), we, the U.S. Fish and Wildlife Service (Service), are advising the public that we intend to prepare an environmental impact statement (EIS) on a proposed Endangered Species Act (16 U.S.C. 1531 et seq.; ESA) incidental take permit (ITP) application from Sierra Pacific Industries (SPI). SPI's application would be for incidental take of the federally threatened Northern spotted owl (Strix occidentalis caurina) and the non-ESA listed California spotted owl (Strix occidentalis occidentalis). We intend to prepare an EIS to evaluate impacts associated with alternatives related to the potential issuance of an ITP to SPI. We are also announcing the initiation of a 30-day public scoping process, the purpose of which is to engage Federal, Tribal, State, and local governments; special interest groups; and the public in the identification of issues and concerns, potential impacts, and possible alternatives to the Service's Proposed Action.

SPI owns and conducts forest practices on 1.6 million acres in the State of California. SPI is preparing a habitat conservation plan (HCP) in support of its ITP application under section 10(a)(1)(B) of the ESA, 16 U.S.C. 1539(a)(1)(B), to cover SPI's operations. The SPI HCP will be developed in accordance with section 10(a)(2)(A) of the ESA and 50 CFR 17.22(b)(1), 17.32(b)(1). SPI may elect to prepare a candidate conservation agreement with assurances (CCAA) for the California spotted owl, instead of including it in the HCP with the Northern spotted owl. If SPI pursues that direction, the CCAA will be developed in accordance with section 10(a)(2)(A) of the ESA and 50 CFR 17.22(d)(1), 17.32(d)(1). The activities to be covered under the SPI HCP and CCAA (if the latter is also prepared) include timber harvest and timber management in the State of California where ESA incidental take authorization may be needed.

Background

Section 9 of the ESA prohibits “take” of fish and wildlife species listed as endangered under section 4 (16 U.S.C. 1538, 16 U.S.C. 1533). The ESA implementing regulations extend, under certain circumstances, the prohibition of take to threatened species (50 CFR 17.31). Under section 3 of the ESA, to “take” means to harass, harm, pursue, hunt, shoot, wound, kill, trap, capture, or collect, or attempt to engage in any such conduct (16 U.S.C. 1532(19)). The term “harm” is defined by regulation as an act which actually kills or injures wildlife. Such act may include significant habitat modification or degradation where it actually kills or injures wildlife by significantly impairing essential behavioral patterns, including breeding, feeding, or sheltering (50 CFR 17.3). The term “harass” is defined in the regulations as an intentional or negligent act or omission which creates the likelihood of injury to wildlife by annoying it to such an extent as to significantly disrupt normal behavioral patterns which include, but are not limited to, breeding, feeding, or sheltering (50 CFR 17.3).

Under section 10 of the ESA, the Service may issue permits to authorize incidental take of federally listed fish and wildlife species. “Incidental take” is defined by the ESA as “take that is incidental to, and not the purpose of, carrying out an otherwise lawful activity.” To obtain an ITP from the Service, an applicant must submit an HCP to the Service that specifies (1) the impact which will likely result from the taking; (2) what steps the applicant will take to minimize and mitigate the impacts, and the funding that will be available to implement such steps; (3) what alternative actions to the taking the applicant considered and the reasons why the alternatives are not being utilized; and (4) other measures that the Service may require as being necessary or appropriate for purposes of the HCP. If we find, after opportunity for public comment, with respect to the permit application and the related HCP that (1) the taking will be incidental; (2) the applicant will, to the maximum extent practicable, minimize and mitigate the impacts of such taking; (3) the applicant will ensure that adequate funding for the HCP will be provided; (4) the taking will not appreciably reduce the likelihood of the survival and recovery of the species in the wild; and (5) the measures, if any, required by the Service will be met, and we have received assurances that the plan will be implemented, the Service will issue SPI its requested permit. Regulations governing permits for endangered and threatened species are at 50 CFR 17.22 and 17.32.

Proposed Sierra Pacific Industries Habitat Conservation Plan

The SPI HCP will encompass land within the State of California where SPI timber management operations occur. SPI currently manages about 1.6 million acres of timber land in the State of California. Activities to be covered by the proposed HCP include those necessary to manage and harvest timber land within the State of California. Covered activities also include development and management of mitigation measures and monitoring.

The SPI HCP will cover the federally listed Northern spotted owl and the unlisted California spotted owl. Both species are subject to injury or mortality during timber harvest operations and management activities.

Alternatively, the California Spotted owl will potentially be covered by a SPI CCAA, and the Northern spotted owl will be covered under the SPI HCP.

Environmental Impact Statement

NEPA (42 U.S.C. 4321 et seq.) requires that Federal agencies conduct an environmental analysis of their proposed actions to determine if the actions may significantly affect the human environment. Through our early analysis and based on 40 CFR 1502.3, we have determined that implementation of the proposed SPI HCP may have significant impacts on the human environment and, because it involves spotted owls and timber harvest, is likely to be controversial. Therefore, before deciding whether to issue an ITP to SPI, we will prepare an EIS to analyze the environmental impacts associated with issuance of the ITP. The EIS will also include analysis of a reasonable range of alternatives to the proposed action. Alternatives considered in the EIS may include, but are not limited to, variations in the permit term or permit structure; the No Surprises timeframe allowed under the ITP; the level of take allowed; the level, location, or type of conservation, monitoring, or mitigation provided; the scope of covered activities; the list of covered species; or a combination of these factors. Additionally, a no action alternative will be included.

Request for Information

We request data, comments, new information, or suggestions from the public, other concerned governmental agencies, the scientific community, Tribes, industry, or any other interested party on this notice. We will consider these comments in developing the draft EIS. We seek specific comments on:

1. Biological information and relevant data concerning covered species;

2. Additional information concerning the range, distribution, population size, and population trends of covered species;

3. Direct, indirect, and cumulative impacts that implementation of the proposed covered activities could have on endangered, threatened, and other covered species, and their communities or habitats;

4. Other possible alternatives to the proposed action(s) that the Service should consider;

5. Other current or planned activities in the subject area and their possible impacts on covered species;

6. The presence of archaeological sites, buildings and structures, historic events, sacred and traditional areas, and other historic preservation concerns, which are required to be considered in project planning by the National Historic Preservation Act; and

7. Any other environmental issues that should be considered with regard to the proposed SPI HCP, and permit action(s).

Public Availability of Comments

You may submit your comments and materials by one of the methods listed above in the ADDRESSES section. Before including your address, phone number, or other personal identifying information in your comment, you should be aware that your entire comment—including your personal identifying information—might be made publicly available at any time. While you can ask us in your comment to withhold your personal identifying information from public review, we cannot guarantee that we will be able to do so.

Comments and materials we receive, as well as supporting documentation we use in preparing the EIS, will be available for public inspection by appointment, during normal business hours, at the Service's Sacramento Fish and Wildlife Office in Sacramento, California (see FOR FURTHER INFORMATION CONTACT).

Scoping Meetings

See DATES for the dates and times of the public scoping meetings. The primary purpose of these meetings and public comment period is to provide the public with a general understanding of the background of the proposed action and to solicit suggestions and information on the scope of issues and alternatives we should consider when drafting the EIS. Written comments will be accepted at the meetings. Comments can also be submitted by methods listed in ADDRESSES. Once the draft EIS and proposed SPI HCP are complete and made available for review, there will be additional opportunity for public comment on the content of those documents.

Persons needing reasonable accommodations in order to attend and participate in the public meetings should contact the Service using one of the methods listed in ADDRESSES as soon as possible. In order to allow sufficient time to process requests, please make contact no later than one week before the public meeting. Information regarding this proposed action is available in alternative formats, upon request.

Authority

We provide this notice under section 10 of the ESA and per NEPA regulations (40 CFR 1501.7, 1506.5 and 1508.22).

Michael Senn,
Acting Assistant Regional Director, Ecological Services, Pacific Southwest Region.

[FR Doc. 2017-17837 Filed 8-22-17; 8:45 am]

BILLING CODE 4333-15-P